DEPARTMENT OF TRANSPORTATION

Maritime Administration

Reports, Forms and Recordkeeping Requirements; Agency Information Collection Activity under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register notice with a 60-day comment period soliciting comments on the following collection of information was published on August 15, 2005, and comments were due by October 14, 2005. No comments were received.

DATES: Comments must be submitted on or before December 1, 2005.

FOR FURTHER INFORMATION CONTACT: Thomas Harrelson, Maritime Administration, 400 Seventh Street, Southwest, Washington, DC 20590; Telephone: (202) 366-4610; FAX: (202) 366-5522; or e-mail: tom.harrelson@dot.gov. Copies of this collection also can be obtained from that office.

SUPPLEMENTARY INFORMATION: Maritime Administration (MARAD).

Title: Monthly Report of Ocean Shipments Moving under Export-Import Bank Financing.

OMB Control Number: 2133-0013.

Type Of Request: Extension of currently approved collection.

Affected Public: Shippers subject to Export/Import Bank Financing.

Forms: MA-518.

Abstract: 46 App. U.S.C. 1241-1, Public Resolution 17, required MARAD to monitor and enforce the U.S.-flag shipping requirements relative to the loans/guarantees extended by the Export-Import Bank (EXIMBANK) to foreign borrowers. Public Resolution 17 requires that shipments financed by EXIMBANK and that move by sea, must be transported exclusively on U.S.-flag registered vessels unless a waiver is obtained from MARAD.

Annual Estimated Burden Hours: 168 hours.

ADDRESSES: Send comments to the Office of Information and Regulatory Affairs, Office of Management and Budget, 725 17th Street, Northwest, Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Issued in Washington, DC on October 24, 2005.
Joel C. Richard,
Secretary, Maritime Administration.

[FR Doc. 05-21733 Filed 10-31-05; 8:45 am]

BILLING CODE 4910-81-P